DEPARTMENT OF COMMERCE

National Oceanic and Atmospheric Administration

Availability of Seats for the Gray's Reef National Marine Sanctuary Advisory Council

AGENCY: National Marine Sanctuary Program (NMSP), National Ocean Service (NOS), National Oceanic and Atmospheric Administration, Department of Commerce (DOC).

ACTION: Notice and request for applications.

SUMMARY: The Gray's Reef National Marine Sanctuary (GRNMS or Sanctuary) is seeking applicants for the following newly-created and three vacant seats on its Sanctuary Adivsory Council (Council): Charter/commercial (for profit) Fishing (charter and commercial fishers), Sport Fishing (recreational hook-and-line and spear fishers), Sport Diving (divers, dive operators, dive clubs, and dive shops), and Regional Conservation. Applicants are chosen based upon their particular expertise and experience in relation to the seat for which they are applying; community and professional affiliations; philosophy regarding the protection and management of marine resources; and possibly the length of residence in the area affected by the Sanctuary. Applicants who are chosen as members should expect to serve 3-year terms, pursuant to the Council's Charter.

DATES: Applications are due by February 11, 2005.

ADDRESSES: Application information may be obtained from Becky Shortland, 10 Ocean Science Circle, Savannah, Georgia 31406; telephone (912) 598-2381; e-mail Becky.Shortland@noaa.gov. Letters of application should be sent to the attention of GRNMS Manager, Reed Bohne at the same address.

FOR FURTHER INFORMATION CONTACT: Becky Shortland, 10 Ocean Science Circle, Savannah, Georgia 31406; telephone (912) 598-2381; e-mail Becky.Shortland@noaa.gov.

SUPPLEMENTARY INFORMATION: GRNMS is one of the largest nearshore live-bottom reefs off the southeastern United States, encompassing approximately 17 square nautical miles. The area earned sanctuary designation in 1981. The sanctuary consists of a series of sandstone outcroppings and ledges up to 10 feet in height, in a predominantly sandy, flat-bottomed sea floor. The live bottom and ledge habitat support an abundant reef fish and invertebrate community. Loggerhead sea turtles, a threatened species, also use GRNMS year-round for foraging and resting, and the reef is within the known winter calving ground for the highly endangered Northern right whale.

The GRNMS Advisory Council was established in August 1999 to provide advice and recommendations on management and protection of the sanctuary. The Council, through its members, also serves as liaison to the community regarding sanctuary issues, and represents community interests, concerns, and management needs to the sanctuary and NOAA.

Authority: 16 U.S.C. sections 1431, et seq.

(Federal Domestic Assistance Catalog Number 11.429 Marine Sanctuary Program)
Dated: January 3, 2005.
Daniel J. Basta,
Director, National Marine Sanctuary Program, National Ocean Services, National Oceanic and Atmospheric Administration.

[FR Doc. 05-747 Filed 1-12-04; 8:45 am]

BILLING CODE 3510-NK-M